DEPARTMENT OF THE INTERIOR

Fish and Wildlife Service

Notice of Availability of Draft Comprehensive Conservation Plan and Environmental Impact Statement for Vieques National Wildlife Refuge

AGENCY: Fish and Wildlife Service, Interior.

ACTION: Notice of availability.

SUMMARY: The Fish and Wildlife Service announces that a Draft Comprehensive Conservation Plan and Environmental Impact Statement (Draft CCP/EIS) for the Vieques National Wildlife Refuge is available for review and comment. This Draft CCP/EIS was prepared pursuant to the National Wildlife Refuge System Administration Act of 1966, as amended by the National Wildlife Refuge System Improvement Act of 1997, and the National Environmental Policy Act of 1969. The Draft CCP/EIS describes how the Service intends to manage the refuge over the next 15 years.

DATES: Written comments must be received at the postal address listed below no later than April 30, 2007.

ADDRESSES: To provide written comments or to obtain a copy of the Draft CCP/EIS, please write to: Oscar Diaz, Refuge Manager, Vieques National Wildlife Refuge, P.O. Box 1527, Vieques, Puerto Rico 00765. A copy of the Draft CCP/EIS is also available on compact diskette. It can be accessed and downloaded at the following Internet address: http://www.fws.gov/southeast/planning/. A public meeting will be held at the Multiple Use Center (Centro de Usos Multiples) in Isabel Segunda, Vieques, Puerto Rico, to present the plan to the public. Special mailings, news media outlets, and posters will be avenues to inform the public of the date and time of the meeting.

SUPPLEMENTARY INFORMATION: The National Wildlife Refuge System Administration Act of 1966, as amended by the National Wildlife Refuge System Improvement Act of 1997 (16 U.S.C. 668dd-668ee) requires the Service to develop a comprehensive conservation plan for each refuge. The purpose in developing a plan is to provide refuge managers with a 15-year strategy for achieving refuge purposes and contributing toward the mission of the National Wildlife Refuge System, consistent with sound principles of fish and wildlife science, conservation, legal mandates, and Service policies. In addition to outlining broad management direction on conserving wildlife and their habitats, plans identify wildlife-dependent recreational opportunities available to the public, including opportunities for hunting, fishing, wildlife observation and photography, and environmental education and interpretation.

The Vieques National Wildlife Refuge was created from former Navy managed lands by congressional actions in 2001 and 2003. It consists of approximately 17,771 acres—3,100 acres on western Vieques and 14,671 acres on eastern Vieques. The transferred lands are to be managed in accordance with the Refuge Administration Act (as amended).

The refuge lands were historically used for agricultural purposes and more recently for military training activities. As a result, the wildlife habitats and communities are significantly altered and non-native invasive species are common along with remnants of native habitats. As a result of the military training, portions of the refuge contain unexploded ordnance and other contaminants. These areas have been classified as a “superfund site” under the Comprehensive Environmental Response, Compensation, and Liability Act (CERCLA). Cleanup of these portions of the refuge is being conducted by the Navy in accordance with CERCLA. In addition, a Federal Facilities Agreement between the Navy, Environmental Protection Agency, Fish and Wildlife Service, and Commonwealth of Puerto Rico will help to guide the cleanup process.

Although the short-term use and management of areas contaminated with unexploded ordnance would be restricted, the alternatives presented in this Draft Plan were developed with the assumption that these lands would be cleaned of any contaminants that would pose a threat to either wildlife or humans.

Before the Service began the development of the Draft Plan, it hosted a series of public scoping meetings to solicit public opinion and identify issues that should be addressed. To address the existing habitat conditions, the ongoing cleanup activities, the issues identified by the public, and the mission and purpose of the refuge, the planning team developed a series of goals for the plan. The goals are: (1) Conserve, enhance, and restore native plant communities and wetland habitats and their associated fish, wildlife, and plants, representative of the native biological diversity that would have been found on Vieques Refuge lands prior to major agricultural and military use of the lands; (2) monitor, protect, and recover special status animals, plants, and species of management interest; (3) provide opportunities for wildlife-dependent recreation and education to enhance public appreciation, understanding, and enjoyment of refuge wildlife, habitats, and cultural history; (4) ensure, through the cooperative efforts of partners, that the refuge is cleaned of all classes of contaminants that could pose a threat to the health and safety of the wildlife, residents, staff, and visitors; (5) provide the resources needed to implement the selected management alternative and ensure the other goals and objectives identified in the plan can be achieved; and (6) develop effective and open communication with the community to raise public awareness of refuge programs, management decisions, the missions of the Fish and Wildlife Service and the National Wildlife Refuge System by working closely with Vieques citizens and interested groups and organizations.

Based on these goals and information obtained during the scoping process, the plan offers three alternatives to help address the issues identified and achieve the vision of the Vieques National Wildlife Refuge.

Alternative A (Current Management or No Action)

The current management alternative provides for a continuation of the existing level of management. Staffing would remain at the current levels and ongoing programs and activities would continue with only minor changes and no new programs.

Alternative B (Resource Emphasis)

This alternative focuses on wildlife and habitat management but maintains the existing visitor programs and public uses. Habitat management and monitoring would be expanded and agreements with research, governmental, and non-governmental organizations would be developed to provide information needed for the management of forests, grasslands, coastal wetlands, beaches, and listed species and their habitats. In partnership with others, programs would be developed for management of nesting sea turtle populations on Vieques Refuge beaches.

Alternative C (Habitat Management and Public Use Emphasis) (Proposed Alternative)

This alternative directs the refuge toward a realistic and achievable level of both habitat management and public use and provides a management program that addresses the needs of the resources and, where appropriate and compatible with the refuge purposes, the needs of the community. This alternative provides for an increase in management efforts to restore the refuge habitats without diminishing the wildlife values associated with the current conditions. There is also a focus on management activities to benefit threatened and endangered species. This includes the possible reintroduction of species extirpated from Vieques and expansion of populations of species already found on the refuge. Priority public uses, as identified in the National Wildlife Refuge System Improvement Act of 1997, would be expanded and other uses that are determined to be compatible with the refuge mission may be permitted. Historic and archaeological resources would be stabilized and, where possible, interpretation of their significance and role in the evolution of Vieques Refuge would be provided.

After the review and comment period for the Draft Plan and Environmental Impact Statement, all comments will be analyzed and considered by the Service. All comments become part of the official public record. Requests for such comments will be handled in accordance with the Freedom of Information Act and other Service and Departmental policies and procedures.

FOR FURTHER INFORMATION CONTACT: Gisella Burgos; Telephone: 787/741-2138.

Authority: This notice is published under the authority of the National Wildlife Refuge System Improvement Act of 1997, Public Law 105-57.

Dated: November 21, 2006.
Cynthia K. Dohner,
Acting Regional Director.

[FR Doc. E7-3478 Filed 2-27-07; 8:45 am]

BILLING CODE 4310-55-P